DEPARTMENT OF COMMERCE

National Oceanic and Atmospheric Administration

[RTID 0648-XC782]

Marine Mammals; File No. 27099

AGENCY: National Marine Fisheries Service (NMFS), National Oceanic and Atmospheric Administration (NOAA), Commerce.

ACTION: Notice; receipt of application.

SUMMARY: Notice is hereby given that the Pacific Whale Foundation (Responsible Party: Jens Curie), 300 Ma'alaea Rd. Ste. 211, Wailuku, Hawaii 96793, has applied in due form for a permit to conduct research on 22 species of cetaceans within waters of the Hawaiian Islands.

DATES: Written, telefaxed, or email comments must be received on or before March 20, 2023.

ADDRESSES: The application and related documents are available for review by selecting “Records Open for Public Comment” from the “Features” box on the Applications and Permits for Protected Species (APPS) home page, https://apps.nmfs.noaa.gov, and then selecting File No. 27099 from the list of available applications. These documents are also available upon written request via email to NMFS.Pr1Comments@noaa.gov.

Written comments on this application should be submitted via email to NMFS.Pr1Comments@noaa.gov. Please include File No. 27099 in the subject line of the email comment.

Those individuals requesting a public hearing should submit a written request via email to NMFS.Pr1Comments@noaa.gov. The request should set forth the specific reasons why a hearing on this application would be appropriate.

FOR FURTHER INFORMATION CONTACT: Courtney Smith, Ph.D., or Erin Markin, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to harass up to 1200 of the following cetaceans species, annually, during vessel, underwater, and Unoccupied Aerial Systems (UAS) surveys within waters of the Main Hawaiian Islands: Blainville's beaked (Mesoplodon densirostris), Bryde's (Balaenoptera brydei), Cuvier's beaked (Ziphius cavirostris), dwarf sperm (Kogia sima), false killer (Pseudorca crassidens; including the endangered Main Hawaiian Islands insular Distinct Population Segment), fin (Balaenoptera physalus), humpback (Megaptera novaeangliae), killer (Orcinus orca), melon-headed (Peponocephala electra), minke (Balaenoptera acutorostrata), pygmy killer (Feresa attenuata), pygmy sperm (Kogia breviceps), short-finned pilot (Globicephala macrorhynchus), and sperm (Physeter macrocephalus) whales; and common bottlenose (Tursiops truncatus), Fraser's (Lagenodelphis hosei), pantropical spotted (Stenella attenuata), Risso's (Grampus griseus), rough-toothed (Steno bredanensis), short-beaked common (Delphinus delphis), spinner (Stenella longistrostris longirostris), and striped (Stenella coeruleoalba) dolphins. The objective of research is to assess the human impacts on, and the distribution, abundance, social organization, population structure, population size, foraging, diet, reproduction, movements, habitat use, body condition, health, and behavior of Hawaiian cetaceans. Proposed research procedures include photo-ID, photogrammetry, underwater filming, suction-cup tagging, biopsy collection, fecal sampling, sloughed skin collection, and exhaled air sample collection. Up to 10 suction-cup tags and up to 40 biopsy samples may be taken from the above listed species. The permit would be valid for 5 years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 13, 2023.
Julia M. Harrison,
Chief, Permits and Conservation Division, Office of Protected Resources, National Marine Fisheries Service.

[FR Doc. 2023-03365 Filed 2-16-23; 8:45 am]

BILLING CODE 3510-22-P